DEPARTMENT OF TRANSPORTATION

National Highway Traffic Safety Administration

Discretionary Cooperative Agreement Program To Support Implementation of the National Strategies for Advancing Bicycle Safety Agenda

AGENCY: National Highway Traffic Safety Administration, DOT.

ACTION: Announcement of a discretionary cooperative agreement program to support efforts to implement the strategies and goals of the National Strategies for Advancing Bicycle Safety agenda.

SUMMARY: The National Highway Traffic Safety Administration (NHTSA) announces a discretionary cooperative agreement program to provide funding to individuals and organizations in support of the implementation of the National Strategies for Advancing Bicycle Safety, a document designed to reduce the incidence of bicycle related fatalities and injuries. The National Strategies for Advancing Bicycle Safety was developed by a diverse group of bicycle advocates, injury prevention specialists, and government representatives working together at a conference in July 2000. The conference was sponsored by NHTSA, the Centers for Disease Control and Prevention (CDC), Federal Highway Administration (FHWA) and the Pedestrian and Bicycle Information Center. The bicycle safety “agenda” addresses five key goals: (1) Motorists will share the road; (2) Bicyclists will ride safely; (3) Bicyclists will wear helmets; (4) The legal system will support safe bicycling; (5) Roads and paths will safely accommodate bicyclists. These goals are designed to be a road map for policy makers, safety specialists, educators, and the bicycling community as they undertake national, state and local efforts to increase safe bicycling.

NHTSA anticipates funding approximately five (5) demonstration projects for a minimum period of one year and a maximum period of two years. To this end, this cooperative agreement will support projects that foster implementation of the National Strategies for Advancing Bicycle Safety.

This notice solicits applications from public and private, non-profit and not-for-profit organizations, State and local governments and their agencies or a consortium of the above. Interested applicants must submit an application packet as further described in the application section of this notice. The application will be evaluated to determine the proposals that will receive funding under this announcement.

DATES: Applications must be received in the office designated below on or before 3 p.m. (EDT), on May 24, 2002.

ADDRESSES: Applications must be submitted to the National Highway Traffic Safety Administration, Office of Contracts and Procurement (NAD-30), Attention: April Jennings, 400 Seventh Street SW., Room 5301, Washington, DC 20590. All applications submitted must include a reference to NHTSA Cooperative Agreement Program Number DTNH22-02-H-05097.

FOR FURTHER INFORMATION CONTACT: General administrative questions may be directed to April Jennings, Office of Contracts and Procurement at 202-366-9571, or by email at ajennings@nhtsa.dot.gov. Programmatic questions relating to this cooperative agreement program should be directed to Marietta Y. Bowen, Safety Countermeasures Division, NHTSA, 400 Seventh Street, SW. (NTS-15), Washington, DC 20590, by email at mbowen@nhtsa.dot.gov, or by phone at (202) 366-1739. Interested applicants are advised that no separate application package exists beyond the contents of this announcement.

SUPPLEMENTARY INFORMATION:

Background

About 85 million adults and children ride their bikes every year. For children and teens, the bicycle is a primary means of transportation when traveling independently. In addition, every morning an estimated half million people bike to work in the United States. However, injuries do occur. Each year, more than 500,000 bicyclists of all ages sustain a cycling injury that requires emergency department care. Of the approximately 800 bicyclists killed annually, about 700 are killed in traffic crashes. Perhaps not surprisingly, more than half of the bicyclists riding in or near traffic report feeling unsafe. In July 2000, a group of safety experts and advocates, bicycling enthusiasts, and government agency representatives met to develop a national agenda for bicycling safety. Safety, not use, was the central theme for the conference, as conference planners believed that increasing bicycle use had coverage in other forums, whereas safety and public health issues associated with bicycling were not adequately covered in other efforts. No one present at the July 2000 conference could recall a time when such a diverse group had been convened or when government representatives had worked with the cycling community to plan significant policy and strategies around bicycling and bicycle safety. The conference focused discussion on five issues that, once accomplished, would advance the safety of all bicyclists, regardless of age. These topics emerged as goals in the outcome document of the conference: The National Strategies for Advancing Bicycle Safety.

The National Strategies for Advancing Bicycle Safety is a call to action. It reflects the thoughts and visions of the Bicycle Safety Conference 2000 participants who, together, developed an agenda that addresses bicycle safety on a variety of fronts. The publication, a result of the conference, is the first step in beginning the process of changing the cycling environment in significant ways by addressing five key goals: (1) Motorists will share the road; (2) Bicyclists will ride safely; (3) Bicyclists will wear helmets; (4) The legal system will support safe bicycling; (5) Roads and paths will safely accommodate bicyclists. Under each goal is a series of strategies and initial action steps for achieving the overall goal.

The strategies outlined in the National Strategies for Advancing Bicycle Safety are considered to be those that can be initiated and completed within a three to five year time frame. Moreover, these strategies are expected to build local support and capacity for efforts to improve safe bicycling. Finally, the National Strategies for Advancing Bicycle Safety provides guidance and direction to those seeking to improve bicycle safety. The challenge now before us is implementation—turning a document into action. The National Strategies for Advancing Bicycle Safety must not sit on a shelf. Rather the goals, strategies and action steps articulated in the document must be put into action to make bicycling safe for all. To help facilitate implementation efforts, NHTSA proposes to support approximately five (5) mini-grant programs aimed at putting into action one or more of the strategies outlined under Goals 1-4 of the National Strategies for Advancing Bicycle Safety.

Copies of the National Strategies for Advancing Bicycle Safety are available on the NHTSA Website at http://www.nhtsa.dot.gov/people/injury/pedbimot/bike/index.html or at the Bike Hub Website at http://www.cdc.gov/ncipc/bike

Purpose

The purpose of this cooperative agreement program is to support implementation of aspects of the National Strategies for Advancing Bicycle Safety. Under each of the goals in the National Strategies for Advancing Bicycle Safety is a series of strategies and initial action steps. Approximately five mini-projects addressing one or more strategies outlined under the National Strategies for Advancing Bicycle will be supported. Each cooperative agreement recipient will be expected to coordinate an effort that supports one or more of the strategies outlined in the agenda. Project length will vary depending on the scope of the proposed effort. However, projects will be considered for a minimum of one year and a maximum of two years.

The objective is to provide seed monies to stakeholders for the purpose of implementing aspects of Goals 1-4 of the National Strategies for Advancing Bicycle Safety. Proposals may address any strategy or strategies listed in Goals 1-4. Examples of possible projects include:

1. Identify the key components of a “Share the Road” campaign for motorists and bicyclists and pilot-test a program built on these. Innovative methods are encouraged.

2. Are there ways, other than a major public information campaign, of teaching motorists about sharing the road with bicyclists? If so, identify and pilot test innovative approaches.

3. Survey/review existing programs to determine the extent to which bicycle safety is incorporated into driver education for beginning drivers and license renewals in all states.

4. Identify and pilot test innovative ways to teach bicyclists safe riding techniques.

5. Develop and test programs to encourage new partners, especially business and industry, to embrace and promote bicycle safety.

6. Identify and evaluate the effectiveness of existing bicycle safety education resources, especially after school programs, rodeos, health and safety fairs, and bicycle safety materials. Who is the audience? Who uses them? How effective are they?

7. Identify and evaluate bicycle safety materials specifically designed to address nontraditional and diverse populations (i.e., different ethnicities; disabilities; ages; geographical locations; etc.)

8. Identify and evaluate national or statewide bicycle helmet safety campaigns (large, public information and education campaigns designed to reach large audiences). Who was the targeted population? What are the delivery channels? How effective were the campaigns?

9. Identify and evaluate bicycle helmet safety materials, resources and programs. How are these materials, programs, etc. generally used? What are the messages? What messages are most effective? Is the material developmentally and culturally appropriate for the intended audience?

10. Identify and evaluate existing efforts to improve bicycle safety enforcement.

11. Identify and evaluate innovative enforcement efforts to enforce existing bicycle helmet laws. What methods of enforcement are most effective? Is there an association between enforcement and a decrease or increase in injuries and/or fatalities, or between enforcement and ridership?

12. Identify and evaluate how bicycle crash data are collected and recorded by law enforcement. What are the data collection procedures and practices? How do these affect the determination of fault between the driver and rider?

13. Identify and evaluate bicycle safety enforcement tools used to enforce bicycle safety traffic laws aimed at bicyclists and motorists. Who uses the tools? How are the tools used? Are the tools effective? What additional tools might be needed? How might these tools best be disseminated?

14. Investigate how courts are currently adjudicating bicycle-related incidents. Include judicial outcomes.

15. Assess the availability and adequacy of bicycle-related data and reporting systems used by courts.

NHTSA Involvement

NHTSA will be involved in all activities undertaken as part of the cooperative agreement program and will:

1. Provide a Contracting Officer's Technical Representative (COTR) to participate in the planning and management of this cooperative agreement and to coordinate activities between the Grantee and NHTSA.

2. Provide information and technical assistance from government sources within available resources and as determined appropriate by the COTR.

3. Serve as a liaison between NHTSA Headquarters, Regional Offices, and others (Federal, State and local) interested in reducing bicycle-related injuries and fatalities and promoting the activities of the grantee.

4. Review and provide comments on program content, materials, and evaluation activities.

5. Stimulate the transfer of information among grant recipients and others engaged in bicycle safety activities.

Availability of Funds

The strategies outlined in the National Strategies for Advancing Bicycle Safety are considered to be those that can be initiated and largely completed within a three-to five-year time frame. This grant program solicits proposals for efforts that can be accomplished within a minimum of one year and a maximum of two years. Approximately $250,000 is available to fund a number of projects for up to $50,000 each. The total number of awards will depend on the quality of the proposals submitted for consideration. Given the amount of funds available for this effort, applicants are strongly encouraged to seek other funding opportunities to supplement the Federal funds. Depending on the number and quality of the proposals received NHTSA reserves the right to fully fund the cooperative agreement at the time of award or incrementally over the period of the cooperative agreement.

Period of Performance

The period of performance for this cooperative agreement is up to two (2) years from the effective date of award.

Eligibility Requirements

Applications may be submitted by public and private, non-profit and not-for-profit organizations, and governments and their agencies or a consortium of the above. Thus, universities, colleges, research institutions, hospitals, other public and private (non-or not-for-profit) organizations, and state and local governments are eligible to apply. Interested applicants are advised that no fee or profit will be allowed under this cooperative agreement program.

Application Procedure

Each applicant must submit one (1) original and two (2) copies of the application package to: NHTSA, Office of Contracts and Procurement (NAD-30), 400 Seventh Street SW., Room 5301, Washington DC 20590. Applications must include a completed Application for Federal Assistance (Standard Form 424—Revised 4/88). An additional two copies will facilitate the review process, but are not required.

Only complete packages received on or before 3:00 p.m., May 24, 2002 will be considered. No facsimile transmissions will be accepted. Applications must be typed on one side of the page only and contain a reference to NHTSA Cooperative Agreement Number DTNH22-02-H-05097. Unnecessarily elaborate applications beyond what is sufficient to present a complete and effective response to this invitation are not desired. Please direct cooperative agreement application questions to April Jennings, at (202) 366-9571 or by email address ajennings@nhtsa.dot.gov. Programmatic questions should be directed to Marietta Bowen, by email at mbowen@nhtsa.dot.gov or by phone at (202) 366-1739.

Application Contents

1. The application package must be submitted with OMB Standard Form 424, (Rev 4-88, including 424A and 424B), Application for Federal Assistance, including 424A, Budget Information-Non-construction Program, and 424B, Assurances-Non-construction Programs, with the required information provided and the certified assurances included. Forms are electronically available for downloading at www.whitehouse.gov/omb/grants/index.html. While the Form 424-A deals with budget information, and Section B identifies Budget Categories, the available space does not permit a level of detail which is sufficient to provide for a meaningful evaluation of the proposed costs. A supplemental sheet should be provided which presents a detailed breakout of the proposed costs (detail labor, including labor category, level of effort, and rate; direct materials, including itemized equipment; travel and transportation, including projected trips and number of people traveling; subcontractors/subgrants, with similar detail, if known; and overhead), as well as any costs the applicant proposes to contribute or obtain from other sources in support of the projects in the project plan. The estimated costs should be separated and proposed by year.

2. Funding sources other than the funds being provided through this cooperative agreement are encouraged. Since activities may be performed with a variety of financial resources, applicants need to fully identify all project costs and their funding sources in the proposed budget. The proposed budget must identify all funding sources in sufficient detail to demonstrate that the overall objectives of the project will be met.

3. Program Narrative Statement: Proposal must fully describe the scope of the project, detailing the activities and costs for which funding is being requested. Also, applications for this program must include the following information in the program narrative statement:

(a) A table of contents including page number references.

(b) If applicable to effort proposed by grantee a description of the community in which the grantee proposes to implement or pilot test a bicycle safety program effort in support of the selected goal identified in the National Strategies for Advancing Bicycle Safety should be provided. For the purpose of this program a community includes a city, town or county, small metropolitan area or a group of cities, towns or counties in particular region. It should be large enough so that the program can have a demonstrable effect on bicycling and bicycle safety. The description of the community should include, at a minimum, community demographics including bicycle population, the community's bicycle safety problems, data sources available, existing traffic safety programs, bicycle helmet laws, bicycle education programs and community resources.

(c) A description of the project's or program goal and how the grantee plans to meet the goal. The grantee must be specific with respect to the particular problem being addressed and how the grantee will successfully address the issues. For example, if the grantee is proposing to review and evaluate existing materials, how will the materials be identified? What partnerships may be necessary? What criteria will be used to evaluate the materials? How will the results be reported? Include letters of agreement and support, as appropriate.

(d) A description of the specific activity proposed by the grantee. What actions will be undertaken to support the proposed project? What partners need to be involved in the effort to ensure success? To what degree has the buy-in of these groups been secured? How does the proposed project contribute to improving bicycle safety? What is “success” and how will it be determined?

(e) A description of the analytic plan, including how information (data) will be obtained, compiled, analyzed, and reported.

(f) A description of how the proposed project will be managed. The application shall identify the proposed project manager and other personnel considered critical to the successful accomplishment of the project, including a brief description of their qualifications and respective organizations responsibilities. The role and responsibilities of the grantee and any others included in the application package shall be specified. The proposed level of efforts in performing the various activities shall also be identified.

(g) A detailed explanation of time schedules, milestones, and product deliverables, including quarterly reports and draft and final reports. (See Terms and Conditions of Award.)

(h) A separately-labeled section with information demonstrating that the applicant meets all of the special competencies listed below:

(i) Demonstrate expertise in traffic safety, program development and implementation, and knowledge and experience in bicycle safety issues, especially related to the specific goal(s) addressed by applicant. If proposing a community intervention, demonstrate knowledge and familiarity with data sources (including local data) needed to determine the incidence of bicycle-related injuries.

(ii) Demonstrate capability of technical and management skills to successfully administer and complete projects in a timely manner. Include a narrative description of the documented experience, clearly indicating the relationship to this project and providing details such as project description and sponsoring agency. References to completed final project reports should include author's name.

(iii) Demonstrate capacity to:

A. Design, implement and evaluate innovative approaches for addressing difficult problems related to issues associated with bicycle safety, crashes and injuries;

B. Work successfully with bicycling and other community groups;

C. Collect and analyze both quantitative and qualitative data; and

D. Synthesize, summarize, and report results, which are useable and decision-oriented.

(iv) Demonstrate experience in working in partnership with others, for example, law enforcement, health care systems, government agencies, the media, etc.

4. Commitment and Support: When other sources and organizations are required to complete the proposed effort, the grantee shall provide proof of said organization's willingness to cooperate on the effort. Such proof can be a letter of support or buy-in indicating what the organization will supply to the grantee.

Application Review Process and Criteria

Each application package will be reviewed initially to confirm that the applicant is an eligible recipient, and has included all of the items specified in the Application Procedures section of this announcement. Each complete application from an eligible recipient will then be evaluated by an Evaluation Committee. The applications will be evaluated using the following criteria:

1. Program Approach (30 percent)

The extent to which the applicant is knowledgeable about bicycle safety efforts and programs. The extent to which the applicant clearly identifies and explains creative approaches to address bicycle-related injuries and fatalities.

If building on an existing approach or program, what are the innovative, new, or creative features that make this project different from what has been tried in the past? Has the applicant identified potential barriers associated with developing and implementing the new, creative approach? Has the applicant offered solutions for addressing the barriers? Has the applicant demonstrated how the project may be adaptable to other jurisdictions at a reasonable cost? Has the applicant identified partners and groups to work on the proposed project? Has the applicant specified who will be involved and what each will contribute to the project? What new or non-traditional partners has the applicant involved in the project?

2. Goals, Objectives, and Work Plan (30 percent)

The extent to which the applicant's goals are clearly articulated and the objectives are time-phased, specific, action-oriented, measurable, and achievable. The extent to which the work plan will achieve an outcome-oriented result that ultimately will reduce bicycle-related crashes, injuries, and fatalities. The applicant will describe how an “outcome-oriented” result will be measured. The work plan must address what the applicant proposes to develop and implement; how this will be accomplished; and must include the major tasks/milestones necessary to complete the project. This involves identification of, and solutions to, potential technical problems and critical issues related to successful completion of the project. The work plan will be evaluated with respect to its feasibility, realism, and ability to achieve desired outcomes.

The work plan must also clearly describe how “an outcome-oriented result” will be measured. This should be articulated in an analytic plan, which clearly defines the project's potential to make a significant impact on improving bicycle safety or reducing bicycle crashes, and associated injuries and fatalities. The analytic plan may differ depending on whether the focus of the effort is a community or examination of data. Issues that need to be considered in the analytic plan include how the information/data collected in the project will be compiled, analyzed, interpreted and reported. When information is qualitative, what criteria will be used to analyze it? Are there sufficient data/information sources and is access ensured from appropriate owners or collectors of data to obtain and appropriately analyze the quantitative and qualitative information needed on the proposed project?

3. Special Competencies (20 percent)

The extent to which the applicant has met the special competencies including knowledge and familiarity with bicycle safety issues associated with the proposed intervention or effort; technical and management skills needed to successfully design, conduct, and evaluate the proposed effort; ability to work with various organizations and the bicycling community to implement programs or compile data; ability to design and implement approaches for addressing bicycle safety related problems; and experience in fostering new partnership with nontraditional partners.

4. Project Management and Staffing (20 percent)

The extent to which the proposed staff are clearly described, appropriately assigned, and have adequate skills and experience. The extent to which the applicant has the capacity and facilities to administer and execute the proposed project. The extent to which the applicant has provided details regarding the level of effort and allocation of time for each staff position. The applicant must furnish an organizational chart and resumes of each proposed staff member. Is the applicant's staffing plan reasonable for accomplishing the objectives of the project within the time frame set forth in the announcement? Is the timeline submitted by the grantee reasonable? Has the applicant's financial budget provided sufficient detail to allow NHTSA to determine that the estimated costs are reasonable and necessary to perform the proposed effort? Has financial or in-kind commitment of resources by the applicant's organization or other supporting organizations been clearly identified?

Special Award Selection Factors

Applicants are strongly urged to seek funds from other Federal, State, local, and private sources to augment those available under this announcement. Among proposals of equal merit preference may be given to those that have proposed cost-sharing strategies and/or other proposed funding sources in addition to those in this announcement.

Terms and Conditions of Award

1. Prior to award, each grantee must comply with the certification requirements of 49 CFR part 20, Department of Transportation New Restrictions on Lobbying, and 49 CFR part 29, Department of Transportation government wide Debarment and Suspension (Non-procurement) and Government-wide Requirement for Drug Free Work Place (Grants).

2. Reporting Requirements and Deliverables:

(a) Quarterly Progress Reports must include a summary of the previous quarter's activities and accomplishments, as well as the proposed activities for the upcoming quarter. Any decisions and actions required in the upcoming quarter should be included in the report. Any problems and issues that may arise and need the Contracting Officer's Technical Representative (COTR) or Contracting Officer (CO) attention should be clearly identified in the quarterly report in a specific, identified section. The grantee shall supply the progress report to the COTR every ninety (90) days, following date of award.

(b) Initial and Subsequent Meetings with COTR: The grantee will meet with the COTR and appropriate NHTSA staff at NHTSA's offices in Washington D.C. to discuss and refine the development, implementation, and evaluation of the project. The grantee will prepare a 20 to 30 minute presentation describing the project and will be prepared to answer questions from the COTR and others present at the briefing. After this initial meeting with the COTR, the grantee should meet at least once a year with the COTR in Washington D.C. at NHTSA's offices to discuss the project's progress and results. These meetings will be a minimum of 4 hours in length.

(c) Revised Project Plan: If needed, the grantee will submit a revised project plan incorporating verbal and written comments from the COTR. This revised plan is due no more than one (1) month from date of the initial meeting with COTR.

(d) Draft Final Report: The grantee will prepare a Draft Final Report that includes a description of the project, issue addressed, program implementation (if relevant), analytic strategies, findings and recommendations. With regard to technology transfer, it is important to know what worked and what did not work, under what circumstances, what can be done to enhance replication in similar communities, and what can be done to avoid potential problems for future replication of the project. This is true even if the applicant reviewed and documented existing programs. The grantee will submit the Draft Final Report to the COTR 60 days prior to the end of the performance period. The COTR will review the Draft Final Report and provide comments to the grantee within 30 days of receipt of the document.

(e) Final Report: The grantee will revise the Draft Final Report to reflect the COTR's comments. The revised final report will be delivered to the COTR 15 days before the end of the performance period.

(f) Requirements for Printed Material: The print materials shall be provided to NHTSA in both camera ready and appropriate media formats (disk, CD-rom) with graphics and printing specifications to guide NHTSA's printing office and any outside organization implementing the program. Printing Specifications follow.

(i) Digital artwork for printing shall be provided to NHTSA on diskette (100MG Zip disk or 1GB Jaz disk). Files should be in current desktop design and publication programs, for example, Adobe Illustrator, Adobe Photoshop, Adobe Pagemaker, Macromedia Freehand, QuarkXPress. The grantee shall provide all supporting files and fonts (both screen and printers) needed for successful output, black and white laser separations of all pages, disk directory(s) with printing specifications provided to the Government Printing Office (GPO) on GPO Form 952 to guide NHTSA's printing office, GPO, and any outside organizations assisting with program production. The grantee shall confer with the COTR to verify all media format and language.

(ii) Additionally, the program materials shall be submitted in the following format for placement on NHTSA's website on the World Wide Web.

• Original application format, for example, *pm5; *.doc; *.ppt; etc

• HTML level 3.2 or later

• A PDF file for viewing with Adobe Acrobat

(iii) All HTML deliverables must be delivered on either a standard 3.5″ floppy disk or on a Windows 95 compatible formatted Iomega zip disk and labeled with the following information:

• Grantee's name and phone number

• Names of relevant files

• Application program and version used to create the file(s).

• If the files exceed the capacity of a high density floppy, a Windows 95 compatible formatted Iomega zip disk is acceptable.

(iv) Graphics must be saved in Graphic Interchange Format (GIF) or Joint Photographic Expert Group (JPEG). Graphics should be prepared in the smallest size possible, without reducing the usefulness or the readability of the figure on the screen. Use GIF for solid color or black and white images, such as bar charts, maps, or diagrams. Use JPEG (highest resolution and lowest compression) for photographic images having a wider range of color or grey-scale tones. When in doubt, try both formats and use the one that gives the best image quality for the smallest file size. Graphic files can be embedded in the body of the text or linked from the body text in their own files: the latter is preferable when a figure needs to be viewed full screen (640 x 480 pixels) to be readable.

• Tabular data must be displayed in HTML table format.

• List data must be displayed in HTML list format.

• Pre-formatted text is not acceptable.

• Currently, frames are not acceptable.

• JAVA, if used, must not affect the readability or usefulness of the document, only enhance it.

• Table background colors may be used, but must not be relied upon (for example, a white document background with a table with colored background may look nice with white text, but the colored background doesn't show up on the user's browser the text shall be white against white and unreadable.)

• All HTML documents must be saved in PC format and tested on a PC before delivery.

(v) During all phases of program development, draft program content and materials shall be provided to the COTR, as appropriate, for approval and coordination within NHTSA.

(vi) All HTML deliverables rendered under this cooperative agreement must comply with the accessibility standards at 36 CFR 1194.22 which implements Section 508 of the Rehabilitation Act of 1973, as amended. This standard is available for viewing at the Access Board web site at: http://www.access-board.gov/sec508/guide/1194.22.htm

Unless otherwise indicated, the grantee represents by signature of this cooperative agreement that all deliverables comply with the accessibility standards.

(g) Final project briefing to NHTSA and a presentation to a national meeting: The grantee will deliver a briefing in Washington, DC at NHTSA's offices to the COTR and appropriate NHTSA staff to review the project implementation, evaluation, and results. This presentation shall last no less than 30 minutes and the grantee shall be prepared to answer questions from the briefing's attendees.

In consultation with the COTR, the grantee will select a national meeting to deliver a presentation of the project and its effectiveness.

(h) The grantee will deliver an electronic Microsoft PowerPoint (97) presentation that NHTSA staff shall be able to use to brief senior staff or bicycle partners at various meetings and conference.

3. During the effective performance period of the cooperative agreements awarded as a result of this announcement, the agreements shall be subject to the National Highway Traffic Safety Administration's General Provisions for Assistance Agreement, dated July 1995.

Issued on: April 9, 2002.
Rose A. McMurray,
Associate Administrator for Traffic Safety Programs.

[FR Doc. 02-9137 Filed 4-15-02; 8:45 am]

BILLING CODE 4910-59-P